DEPARTMENT OF EDUCATION

National Advisory Committee on Institutional Quality and Integrity (NACIQI)

AGENCY: National Advisory Committee on Institutional Quality and Integrity, Office of Postsecondary Education, U.S. Department of Education.

ACTION: Announcement of an open meeting of the National Advisory Committee on Institutional Quality and Integrity (NACIQI) and information pertaining to members of the public submitting third-party written and oral comments.

ADDRESSES: U.S. Department of Education, Office of Postsecondary Education, 1990 K Street NW., Room 8072, Washington, DC 20006.

NACIQI's Statutory Authority and Function: The NACIQI is established under Section 114 of the HEA of 1965, as amended, 20 U.S.C. 1011c. The NACIQI advises the Secretary of Education about:

• The establishment and enforcement of the criteria for recognition of accrediting agencies or associations under Subpart 2, Part H, Title IV, of the HEA, as amended.

• The recognition of specific accrediting agencies or associations or a specific State approval agency.

• The preparation and publication of the list of nationally recognized accrediting agencies and associations.

• The eligibility and certification process for institutions of higher education under Title IV, of the HEA, together with recommendations for improvement in such process.

• The relationship between (1) accreditation of institutions of higher education and the certification and eligibility of such institutions, and (2) State licensing responsibilities with respect to such institutions.

• Any other advisory function relating to accreditation and institutional eligibility that the Secretary may prescribe.

SUMMARY: This notice sets forth the agenda for the June 18-19, 2014 meeting of the National Advisory Committee on Institutional Quality and Integrity (NACIQI); and provides information to members of the public on submitting written comments and on requesting to make oral comments at the meeting. The notice of this meeting is required under Section 10(a)(2) of the Federal Advisory Committee Act (FACA) and Section 114(d)(1)(B) of the Higher Education Act (HEA) of 1965, as amended.

Meeting Date and Location: The NACIQI meeting will be held on June 18-19, 2014, from 8:00 a.m. to 5:30 p.m. at a location to be determined in the Washington DC area. The exact location will be published in the Federal Register and on the Department's Web site at http://www2.ed.gov/about/bdscomm/list/naciqi.html#meetings by May 16, 2014.

Meeting Agenda: In addition to its review of accrediting agencies and State approval agencies for Secretarial recognition, the meeting agenda will include presentations to further inform the Committee about current issues and discussions concerning accreditation and to engage the Committee in discussions regarding the Committee's 2012 recommendations and/or developing new policy recommendations to advise the Secretary in preparation for the reauthorization of the Higher Education Act (HEA).

Below is a list of agencies, including their current and requested scopes of recognition, scheduled for review during the June 18-19, 2014 meeting:

Petition for Initial Recognition

Accrediting Agency

1. Commission on Accreditation of Educator Preparation (CAEP) (Requested Scope: The accreditation of educator preparation programs in degree-granting institutions of higher education throughout the United States that offer certificates/licensure, or an associate's, bachelor's, master's, post-baccalaureate, and doctoral degrees including those offered via distance education.)

Petitions for Continued Recognition

Accrediting Agencies

1. National Association of Schools of Dance (NASD), Commission on Accreditation (Current Scope: The accreditation throughout the United States of freestanding institutions, and units offering dance and dance-related programs (both degree- and non-degree-granting), including those offered via distance education.) (Requested Scope: The accreditation throughout the United States of freestanding institutions and units offering dance and dance-related programs (both degree- and non-degree-granting), including those offered via distance and correspondence education.)

2. National Association of Schools of Music (NASM), Commission on Accreditation (Current Scope: The accreditation throughout the United States of freestanding institutions, and units offering music and music-related programs (both degree- and non-degree-granting), including those offered via distance education.) (Requested Scope: The accreditation throughout the United States of freestanding institutions and units offering music and music-related programs (both degree- and non-degree-granting), including those offered via distance and correspondence education.)

3. National Association of Schools of Theater (NAST), Commission on Accreditation (Current Scope: The accreditation throughout the United States of freestanding institutions, and units offering theatre and theatre-related programs (both degree- and non-degree-granting), including those offered via distance education.) (Requested Scope: The accreditation throughout the United States of freestanding institutions and units offering theatre and theatre-related programs (both degree- and non-degree-granting), including those offered via distance and correspondence education.)

Petitions for Recognition Based on a Compliance Report

Accrediting Agencies

1. The Association for Biblical Higher Education (ABHE) (Current and Requested Scope: The accreditation and preaccreditation (“Candidate for Accreditation”), at the undergraduate level, of institutions of biblical higher education in the United States offering both campus-based and distance education instructional programs.)

2. Accreditation Commission for Education in Nursing (ACEN) (Current and Requested Scope: Accreditation of nursing education programs and schools, both postsecondary and higher degree, which offer a certificate, diploma, or a recognized professional degree including clinical doctorate, masters, baccalaureate, associate, diploma, and practical nursing programs in the United States and its territories, including those offered via distance education.)

3. Accreditation Commission for Midwifery Education (ACME) (Current and Requested Scope: The accreditation and pre-accreditation of basic certificate, basic graduate nurse-midwifery, direct entry midwifery, and pre-certification nurse-midwifery education programs, including those programs that offer distance education.)

4. Accreditation Council for Pharmacy Education (ACPE) (Current and Requested Scope: The accreditation and preaccreditation, within the United States, of professional degree programs in pharmacy leading to the degree of Doctor of Pharmacy, including those programs offered via distance education.)

5. American Physical Therapy Association, Commission on Accreditation in Physical Therapy Education (CAPTE) (Current and Requested Scope: The accreditation and pre-accreditation (“Candidate for Accreditation”) in the United States of physical therapist education programs leading to the first professional degree at the master's or doctoral level and physical therapist assistant education programs at the associate degree level and for its accreditation of such programs offered via distance education.)

6. Commission on Collegiate Nursing Education (CCNE) (Current and Requested Scope: The accreditation of nursing education programs in the United States, at the baccalaureate, master's, and doctoral levels, including programs offering distance education.)

7. Liaison Committee on Medical Education (LCME)

(Current and Requested Scope: The accreditation of medical education programs within the United States leading to the M.D. degree.)

8. Middle States Commission on Secondary Schools (MS-CSS) (Current and Requested Scope: The accreditation of institutions with postsecondary, non-degree granting career and technology programs in Delaware, Maryland, New Jersey, New York, Pennsylvania, the Commonwealth of Puerto Rico, the District of Columbia, and the U.S. Virgin Islands to include the accreditation of postsecondary, non-degree granting institutions that offer all or part of their educational programs via distance education modalities.)

9. National Association of Schools of Art and Design (NASAD), Commission on Accreditation (Current Scope: The accreditation throughout the United States of freestanding institutions and units offering art/design and art/design-related programs (both degree- and non-degree-granting), including those offered via distance education.) (Requested Scope: The accreditation throughout the United States of freestanding institutions and units offering art/design and art/design-related programs (both degree- and non-degree-granting), including those offered via distance and correspondence education.)

10. Southern Association of Colleges and Schools (SACSCOC) (Current and Requested Scope: The accreditation and pre-accreditation (“Candidate for Accreditation”) of degree-granting institutions of higher education in Alabama, Florida, Georgia, Kentucky, Louisiana, Mississippi, North Carolina, South Carolina, Tennessee, Texas, and Virginia, including the accreditation of programs offered via distance and correspondence education within these institutions. This recognition extends to the SACSCOC Board of Trustees and the Appeals Committee of the College Delegate Assembly on cases of initial candidacy or initial accreditation and for continued accreditation or candidacy.)

State Approval Agencies for Nurse Education

1. Maryland Board of Nursing (MDBN)

2. Missouri State Board of Nursing (MOSBN)

State Approval Agencies for Vocational Education

1. Oklahoma Board of Career and Technology Education

2. Puerto Rico State Agency for the Approval of Public Postsecondary Vocational, Technical Institutions, and Programs (PRHRDC)

Submission of Written Comments: Written comments must be received by March 17, 2014, in the accreditationcommittees@ed.gov mailbox and include the subject line “Written Comments: Re (agency name).” The email must include the name, title, affiliation, mailing address, email address, telephone and facsimile numbers, and Web site (if any) of the person/group making the comment. Comments should be submitted as a Microsoft Word document or in a medium compatible with Microsoft Word (not a PDF file) that is attached to an electronic mail message (email) or provided in the body of an email message. Comments about an agency's compliance report must relate to the issues raised and the criteria for recognition cited in the Secretary's letter that requested the report. Comments about the renewal of an agency's recognition must relate to its compliance with the Criteria for the Recognition of Accrediting Agencies, the Criteria and Procedures for Recognition of State Agencies for Approval of Public Postsecondary Vocational Education, or the Criteria and Procedures for Recognition of State Agencies for Approval of Nurse Education, as appropriate, which are available at http://www.ed.gov/admins/finaid/accred/index.html. Third parties having concerns about agencies regarding matters outside the scope of the petition should report those concerns to the Department. Only material submitted by the deadline to the email address listed in this notice, and in accordance with these instructions, become part of the official record concerning agencies scheduled for review and are considered by the Department and the NACIQI in their deliberations. Please do not send material directly to the NACIQI members.

Submission of Requests to Make an Oral Comment: There are two methods the public may use to make a third-party oral comment of three to five minutes concerning one of the agencies scheduled for review at the June 18-19, 2014 meeting. Oral comments about agencies seeking renewal of recognition must relate to the Criteria for Recognition of Accrediting Agencies, the Criteria and Procedures for Recognition of State Agencies for Approval of Public Postsecondary Vocational Education, or the Criteria and Procedures for Recognition of State Agencies for Approval of Nurse Education, as appropriate, which are available at: http://www.ed.gov/admins/finaid/accred/index.html

Method One: Submit a request by email to the accreditationcommittees@ed.gov mailbox. Please do not send material directly to NACIQI members. Requests must be received by March 17, 2014, and include the subject line “Oral Comment Request: re (agency name).” The email must include the name, title, affiliation, mailing address, email address, telephone and facsimile numbers, and Web site (if any) of the person/group requesting to speak. All individuals or groups submitting an advance request in accordance with this notice will be afforded an opportunity to speak. Comments may not exceed three minutes, except at the discretion of the NACIQI Chair exercised on a case-by-case basis during the meeting. Each request must concern the recognition of a single agency or institution tentatively scheduled in this notice for review, be no more than one page (maximum), and must include:

1. The name, title, affiliation, mailing address, email address, telephone and facsimile numbers, and Web site (if any) of the person/group requesting to speak; and,

2. A brief summary of the principal points to be made during the oral presentation.

Method Two: Register at the meeting location on June 18, 2014, to make an oral comment during the NACIQI's deliberations concerning a particular agency or institution scheduled for review. The requestor must provide his or her name, title, affiliation, mailing address, email address, telephone and facsimile numbers, and Web site (if any). A total of up to fifteen minutes during each agency review will be allotted for oral commenters who register on June 18, 2014. Individuals or groups will be selected on a first-come, first-served basis. If selected, each commenter may not exceed three minutes, depending on the number of individuals or groups who sign up on June 18, 2014, to make oral comments, except at the discretion of the NACIQI Chair exercised on a case-by-case basis. The oral comments made will become part of the official record and will be considered by the Department and NACIQI in their deliberations. No individual or group in attendance or making oral presentations may distribute written materials at the meeting.

Access to Records of the Meeting: The Department will post the official report of the meeting on the NACIQI Web site 90 days after the meeting. Pursuant to the FACA, the public may also inspect the materials at 1990 K Street NW., Washington, DC, by emailing aslrecordsmanager@ed.gov or by calling (202) 219-7067 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

FOR FURTHER INFORMATION CONTACT: Carol Griffiths, Executive Director, NACIQI, U.S. Department of Education, 1990 K Street NW., Room 8073, Washington, DC 20006-8129, telephone: (202) 219-7035, fax: (202) 219-7005, or email Carol.Griffiths@ed.gov.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Brenda Dann-Messier,
Acting Assistant Secretary for Postsecondary Education.

[FR Doc. 2014-04090 Filed 2-24-14; 8:45 am]

BILLING CODE 4000-01-P